DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 15, 2005.

Interested persons are invited to submit written comments regarding the subject matter of the investigations to the Director, Division of Trade Adjustment Assistance, at the address shown below, not later than August 15, 2005.

The petitions filed in this case are available for inspection at the Office of the Director, Division of Trade Adjustment Assistance, Employment and Training Administration, U.S. Department of Labor, Room C-5311, 200 Constitution Avenue, NW., Washington, DC 20210.

Signed in Washington, DC this 29th day of July 2005.
Timothy Sullivan,
Acting Director, Division of Trade Adjustment Assistance.

Appendix
[Petitions Instituted Between 07/05/2005 and 07/15/2005]
TA-W | Subject firm (Petitioners) | Location | Date of institution | Date of Petition
57,502 | Tiercon Industries USA, Inc. (Wkrs) | Vassar, MI | 07/05/2005 | 07/01/2005
57,503 | Office Equipment Services, Inc. (Comp) | Paw Paw, WV | 07/05/2005 | 07/01/2005
57,504 | Menasha Packaging (Comp) | Danville, VA | 07/05/2005 | 06/27/2005
57,505 | Eck Adams Corp. (State) | Osceola, AR | 07/06/2005 | 07/05/2005
57,506 | Eck Adams Corp. (State) | Osceola, AR | 07/06/2005 | 07/05/2005
57,506 | Viskase Corporation (Comp) | Kentland, IN | 07/06/2005 | 06/28/2005
57,507 | Noble Industries, Ltd. (Comp) | Mason City, IA | 07/06/2005 | 06/30/2005
57,503 | DeBall, Inc. (Comp) | Asheville, NC | 07/06/2005 | 07/06/2005
57,509 | Greenville Finishing Company (Comp) | Greenville, SC | 07/06/2005 | 07/05/2005
57,510 | Green Printing and Packaging Co. (Wkrs) | Lexington, NC | 07/06/2005 | 06/29/2005
57,511 | Trane Company (IAM) | La Crosse, WI | 07/06/2005 | 07/06/2005
57,512 | U.S. Airways (Wkrs) | Myrtle Beach, SC | 07/07/2005 | 06/26/2005
57,513 | Tower Automotive Products (Comp) | Milwaukee, WI | 07/07/2005 | 06/30/2005
57,514 | Painting Red Rhinos (Comp) | Mechanicsburg, PA | 07/07/2005 | 07/05/2005
57,515 | Diebold, Inc. (Wkrs) | Danville, VA | 07/07/2005 | 06/16/2005
57,516 | Diasys Corp. (Wkrs) | Waterbury, CT | 07/07/2005 | 07/07/2005
57,517 | Dan River, Inc. (Wkrs) | Danville, VA | 07/03/2005 | 07/07/2005
57,518 | Boone International, Inc. (Comp) | Corona, CA | 07/03/2005 | 07/01/2005
57,519 | Owens-Illinois Healthcare Packaging (GMP) | Sullivan, IN | 07/03/2005 | 07/07/2005
57,520 | CTNA—Continental Ag. (USWA) | Mayfield, KY | 07/03/2005 | 07/07/2005
57,521 | International Paper Co. (Wkrs) | Memphis, TN | 07/03/2005 | 07/07/2005
57,522 | Exxon Mobil Chemical Co. (State) | Stratford, CT | 07/03/2005 | 07/07/2005
57,523 | ABC Hosiery (Wkrs) | Chattanooga, TN | 07/03/2005 | 07/07/2005
57,524 | USA Knit (Wkrs) | Fort Payne, AL | 07/03/2005 | 07/07/2005
57,525 | Guess, Inc. (State) | Los Angeles, CA | 07/03/2005 | 06/23/2005
57,526 | Bard na nGleann (State) | San Jose, CA | 07/03/2005 | 06/23/2005
57,527 | Dimco-Gray Company (Wkrs) | Centerville, OH | 07/03/2005 | 06/22/2005
57,528 | Tower Automotive (UAW) | Granite City, IL | 07/03/2005 | 07/05/2005
57,529 | Batesville Casket Company (Comp) | Nashua, NH | 07/03/2005 | 06/24/2005
57,530 | General Electric Consumer and Industrial (Comp) | Jonesboro, AR | 07/03/2005 | 06/21/2005
57,531 | Agrium US, Inc. (Comp) | Kennewick, WA | 07/03/2005 | 06/27/2005
57,532A | California Advanced Sports (NPC) | La Mirada, CA | 07/11/2005 | 07/01/2005
57,532B | 360, Inc. (NPC) | La Mirada, CA | 07/11/2005 | 07/01/2005
57,532 | Roller Derby Skate Corp. (NPC) | Atglen, PA | 07/11/2005 | 07/01/2005
57,533 | Atlas Wire and Cable Corp. (State) | Montebello, CA | 07/11/2005 | 07/03/2005
57,534 | RAM Industries, LLC (Comp) | Leesport, PA | 07/11/2005 | 07/11/2005
57,535 | Waytec Electronics Corp. (Wkrs) | Lynchburg, VA | 07/12/2005 | 07/11/2005
57,536 | Roller Derby Skate Corp. (Comp) | LA Mirada, CA | 07/12/2005 | 07/01/2005
57,537 | Victor Forstmann Inc. (State) | East Dublin, GA | 07/12/2005 | 05/19/2005
57,538 | Tyler Pipe (USWA) | Tyler, TX | 07/12/2005 | 07/11/2005
57,539 | Robert Bosch Corporation (Comp) | Gallatin, TN | 07/12/2005 | 07/12/2005
57,540 | Menasha Packaging Co. (Comp) | Otsego, MI | 07/13/2005 | 07/13/2005
57,541 | Bridgestone Firestone Tube Co. (State) | Russellville, | 07/13/2005 | 07/12/2005
57,542 | Cray, Inc. (Wkrs) | Chippewa Falls, WI | 07/13/2005 | 07/12/2005
57,543 | J.R. Greene, Inc. (Comp) | Boonton, NJ | 07/13/2005 | 06/02/2005
57,544 | Husky Injection Molding Systems (Comp) | Milton, VT | 07/13/2005 | 07/12/2005
57,545 | Solvay Pharmaceuticals (State) | Baudette, MN | 07/13/2005 | 07/13/2005
57,546 | WestPoint Stevens, Inc. (Comp) | Daleville, IN | 07/14/2005 | 07/10/2005
57,547 | Archway Mothers Cookie Co. (Wkrs) | Red Bud, IL | 07/14/2005 | 06/30/2005
57,548 | R.E. Phelon Co. (Comp) | Lomira, WI | 07/14/2005 | 07/02/2005
57,549 | Crane Plumbing, LLC (Comp) | Somerset, PA | 07/14/2005 | 07/13/2005
57,550 | Burner Systems International, Inc. (Comp) | Chattanooga, TN | 07/14/2005 | 06/29/2005
57,551 | Creo Americas, Inc. (Comp) | Rosemont, IL | 07/14/2005 | 07/15/2005
57,552 | TransCanada GTN Systems (Wkrs) | Sandpoint, ID | 07/14/2005 | 07/11/2005
57,553 | Merix Corporation (Comp) | Forest Grove, OR | 07/14/2005 | 07/13/2005
57,554 | Magnetics (Comp) | Booneville, AR | 07/14/2005 | 07/14/2005
57,555 | Apotex Corp. (Wkrs) | Lincolnshire, IL | 07/14/2005 | 07/14/2005
57,556 | Webb Wheel Products, Inc. (State) | Siloam, AR | 07/15/2005 | 07/14/2005
57,557 | McBee, Inc. (Wkrs) | Athens, OH | 07/15/2005 | 07/14/2005
57,558 | H.A. Parts of Indiana Co. (Comp) | Greencastle, IN | 07/15/2005 | 07/14/2005
57,559 | Alexander Fabrics (Comp) | Burlington, NC | 07/15/2005 | 07/15/2005
57,560 | Gross Given Mfg. Co. (State) | St. Paul, MN | 07/15/2005 | 07/15/2005
57,561 | Concept Fabrics, Inc. (Comp) | Asheboro, NC | 07/15/2005 | 07/12/2005
57,562 | Kraco Enterprises, Inc. (UE) | Compton, CA | 07/15/2005 | 07/11/2005
57,563 | Addie Fashions, Inc. (Wkrs) | West Union, SC | 07/15/2005 | 07/07/2005
57,564 | Bush Industries, Inc. (Wkrs) | Jamestown, NY | 07/15/2005 | 06/28/2005
57,565 | American Texile Marketing, Inc. (Comp) | Columbus, GA | 07/15/2005 | 07/01/2005

[FR Doc. E5-4219 Filed 8-4-05; 8:45 am]

BILLING CODE 4510-30-P